DEPARTMENT OF HEALTH AND HUMAN SERVICES

Centers for Disease Control and Prevention

National Center for Environmental Health/Agency for Toxic Substances and Disease Registry; the Program Peer Review Subcommittee (PPRS) of the Board of Scientific Counselors (BSC), Centers for Disease Control and Prevention (CDC), National Center for Environmental Health/Agency for Toxic Substances and Disease Registry (NCEH/ATSDR): Teleconference

In accordance with section 10(a)(2) of the Federal Advisory Committee Act (Pub. L. 92-463), CDC, NCEH/ATSDR announces the aforementioned subcommittee meeting:

Time and Date: 3 p.m.-5 p.m., September 24, 2007.

Place: The teleconference will originate at NCEH/ATSDR in Atlanta, Georgia. To participate, dial (877)315-6535 and enter conference code 383520.

Purpose: Under the charge of the BSC, NCEH/ATSDR, the PPRS will provide the BSC, NCEH/ATSDR with advice and recommendations on NCEH/ATSDR program peer review. They will serve the function of organizing, facilitating, and providing a long-term perspective to the conduct of NCEH/ATSDR program peer review.

Matters To Be Discussed: A discussion of Preparedness and Emergency Response Peer Review, and review and approve previous meeting minutes.

Agenda items are subject to change as priorities dictate.

Supplementary Information: This meeting is scheduled to begin at 3 p.m. Eastern Time. To participate, please dial (877)315-6535 and enter conference code 383520. Public comment period is scheduled for 4-4:15 p.m.

Contact Person for More Information: Sandra Malcom, Committee Management Specialist, Office of Science, NCEH/ATSDR, M/S E-28, 1600 Clifton Road, NE., Atlanta, Georgia 30333, Telephone (404)498-0622.

The Director, Management Analysis and Services Office, has been delegated the authority to sign Federal Register notices pertaining to announcements of meetings and other committee management activities for both CDC and NCEH/ATSDR.

Dated: August 29, 2007.
Diane C. Allen,
Acting Director, Management Analysis and Services Office, Centers for Disease Control and Prevention.

[FR Doc. E7-17522 Filed 9-4-07; 8:45 am]

BILLING CODE 4163-18-P